DEPARTMENT OF AGRICULTURE

Rural Utilities Service

7 CFR Part 1710

RIN 0572-AC15

Electric Program: Definition of Rural Area

AGENCY: Rural Utilities Service, USDA.

ACTION: Proposed rule.

SUMMARY: The Rural Utilities Service (RUS) is amending its regulations to administer the Electric Program. This action implements the provision in the Food, Conservation, and Energy Act of 2008 hereinafter called the “2008 Farm Bill,” amending the definition of “rural area.” The 2008 Farm Bill revises the definition of rural to include any area other than a city, town, or unincorporated area that has a population of greater than 20,000 inhabitants. The 2008 Farm Bill also includes in the revised rural definition those service areas of borrowers having an outstanding loan under Title I through V of the Rural Electrification Act of 1936. The intended effect is to update agency regulations to reflect current statutory authority. No adverse comments are expected.

In the final rule section of the Federal Register, the Agency is publishing this action as a direct final rule without prior proposal because RUS views this as a non-controversial action and expects no adverse comments. If no adverse comments are received in response to the direct final rule, no further action will be taken on this proposed rule, and the action will become effective at the time specified in the direct final rule. If the Agency receives adverse comments, a timely document will be published withdrawing the direct final rule, and all public comments received will be addressed in a subsequent final rule based on this action.

DATES: Comments on this proposed action must be received by RUS or carry a postmark or equivalent no later than December 2, 2009.

ADDRESSES: Submit adverse comments or notice of intent to submit adverse comments by any of the following methods:

• Federal eRulemaking Portal: Go to http://www.regulations.gov. In the “Search Documents” box, enter RUS-09-Electric-0002, check the box under the Search box labeled “Select to find documents accepting comments or submissions,” and click on the GO>> key. To submit a comment, choose “Send a comment or submission,” under the Docket Title. In order to submit your comment, the information requested on the “Public Comment and Submission Form,” must be completed. (If you click on the hyperlink of the docket when the search returns it, you will see the docket details. Click on the yellow balloon to receive the “Public Comment and Submission Form.”) Information on using Regulations.gov, including instructions for accessing documents, submitting comments, and viewing the docket after the close of the comment period, is available through the site's “How to Use this Site” link.

• Postal Mail/Commercial Delivery: Please send your comment addressed to Michele Brooks, Director, Program Development and Regulatory Analysis, USDA Rural Development, STOP 1522, Room, 5159, 1400 Independence Avenue, SW., Washington, DC 20250-1522. Please state that your comment refers to Docket No. RUS-09-Electric-0002.

Other Information: Additional information about RUS and its programs is available at: http://www.rurdev.usda.gov/index.html.

FOR FURTHER INFORMATION CONTACT: Chris Tuttle, Economist, Electric Programs, Rural Utilities Service, USDA Rural Development, 1400 Independence Avenue, STOP 1570, Room 5038 South Building, Washington, DC 20250-1570. Telephone: (202) 205-3655; FAX: (202) 690-0717; e-mail: chris.tuttle@wdc.usda.gov.

SUPPLEMENTARY INFORMATION: See the SUPPLEMENTARY INFORMATION provided in the direct final rule located in the Rules and Regulations direct final rule section of the Federal Register for the applicable SUPPLEMENTARY INFORMATION on this action.

Jonathan Adelstein,
Administrator, Rural Utilities Service.

[FR Doc. E9-26206 Filed 10-30-09; 8:45 am]

BILLING CODE 3410-15-P